DEPARTMENT OF THE INTERIOR

Fish and Wildlife Service

[FWS-R4-ES-2009-N0044; 40120-1112-0000-F5]

Receipt of Applications for Endangered Species Permits

AGENCY: Fish and Wildlife Service, Interior.

ACTION: Notice.

SUMMARY: The public is invited to comment on the following applications to conduct certain activities with threatened and endangered species.

DATES: We must receive written data or comments on the applications at the address given below, by April 8, 2009.

ADDRESSES: Documents and other information submitted with the applications are available for review, subject to the requirements of the Privacy Act and Freedom of Information Act, by any party who submits a written request for a copy of such documents to the following office within 30 days of the date of publication of this notice: Fish and Wildlife Service, 1875 Century Boulevard, Suite 200, Atlanta, Georgia 30345 (Attn: David Dell, HCP Coordinator).

FOR FURTHER INFORMATION CONTACT: David Dell, telephone 404/679-7313; facsimile 404/679-7081.

SUPPLEMENTARY INFORMATION: The public is invited to comment on the following applications for permits to conduct certain activities with endangered and threatened species pursuant to section 10(a)(1)(A) of the Endangered Species Act of 1973, as amended (16 U.S.C. 1531 et seq.). This notice is provided under section 10(c) of the Act. If you wish to comment, you may submit comments by any one of the following methods. You may mail comments to the Fish and Wildlife Service's Regional Office (see ADDRESSES section) or via electronic mail (e-mail) to david_dell@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Applicant: Kentucky Division of Abandoned Mine Lands, Frankfort, Kentucky, TE206886

The applicant requests authorization to capture, identify, and release Indiana bats (Myotis sodalis), gray bats (Myotis grisescen), Virginia big-eared bats (Plecotus townsendii virginianus), Ozark big-eared bats (Plecotus townsendii ingens), blackside dace (Phoxinus cumberlandensis), palezone shiner (Notropis albizonatus), and relict darter (Etheostoma chiense) for presence surveys throughout Kentucky.

Applicant: Joy O'Keefe, Aiken, South Carolina, TE206872

The applicant requests authorization to capture, identify, and release Indiana bats, for presence surveys throughout Alabama, Georgia, Kentucky, North Carolina, South Carolina, Tennessee, Virginia, and West Virginia.

Applicant: Ronald Spears, Denver, Colorado, TE207139

The applicant requests authorization to capture, identify, and release Indiana and gray bats, for presence surveys throughout the species ranges in the midwestern and southeastern United States.

Applicant: T.H.E. Engineers, Lexington, Kentucky, TE206874

The applicant requests authorization to capture, identify, and release Indiana bats, gray bats, Virginia big-eared bats, blackside dace, and American burying beetle (Nicrophorus americanus) for presence surveys throughout Kentucky and Tennessee.

Applicant: Apogee Environmental Consultants, Inc., Whitesburg, Kentucky, TE070796

The applicant requests renewal of existing authorization to capture, identify, radio-tag, and release Indiana, gray, Virginia big-eared, and Ozark big-eared bats for presence surveys throughout the species ranges in the eastern United States.

Applicant: Copperhead Environmental Consulting, Inc., Paint Lick, Kentucky, TE070584

The applicant requests renewal of existing authorization to capture, identify, radio-tag, and release Indiana, gray, Virginia big-eared, and Ozark big-eared bats for presence surveys throughout the species ranges in the eastern United States.

Applicant: Biological Systems Consultants, Inc., Lexington, Kentucky, TE096554

The applicant requests renewal of existing authorization to capture, identify, and release blackside dace for presence surveys throughout Tennessee and to amend their authorization to include Kentucky.

Applicant: HMB Professional Engineers, Frankfort, Kentucky, TE129703

The applicant requests amendment of existing authorization to add authority to harass, collect, or capture, identify, and release Virginia big-eared bats, American burying beetle, clubshell (Pleurobema clava), Eskimo curlew (Numenius borealis), relict darter, scaleshell mussel (Leptodea leptodon), northern riffleshell (Epioblasma torulosa rangiana), palezone shiner, Kentucky cave shrimp (Palaemonias ganteri), Braun's rock-cress (Arabis perstellata), and Cumberland sandwort (Arenaria cumberlandensis) for presence surveys throughout Kentucky and Tennessee.

Applicant: Appalachian Technical Services, Inc., Wise, Virginia, TE009638

The applicant requests amendment of existing authorization to add authority to capture, handle, and release slender chub (Erimystax cahni), fanshell (Cyprogenia stegaria), dromedary pearlymussel (Dromus dromas), Cumberlandian combshell (Epioblasma brevidens), Appalachian monkeyface (Quadrula sparsa), Cumberland monkeyface (Quadrula intermedia), pink mucket (Lampsilis abrupta), and rough pigtoe (Pleurobema plenum) for presence surveys and scientific research aimed at recovery of the species throughout Georgia, North Carolina, Alabama, Mississippi, Kentucky, Tennessee, Ohio, Indiana, Pennsylvania, Virginia, and West Virginia.

Applicant: U.S.D.A. Forest Service, Chattahoochee-Oconee National Forests, Gainesville, Georgia, TE100242

The applicant requests renewal of existing authorization to capture, identify, and release spotfin chub (Cyprinella monacha), amber darter (Percina antesella), goldline darter (Percina aurolineata), Conasauga logperch (Percina jenkinsi), blue shiner (Cyprinella caerulea), Etowah darter (Etheostoma etowahae), and Cherokee darter (Etheostoma scotti) for presence surveys throughout Georgia.

Applicant: Fish and Wildlife Associates, Whittier, North Carolina, TE083941

The applicant requests renewal of existing authorization to capture, handle, and release snail darter (Percina tanasi), Conasauga logperch, blue shiner, amber darter (Percina antesella), goldline darter, Etowah darter, Cherokee darter, and painted snake coiled forest snail (Anguispira picta) for presence surveys throughout Georgia, Alabama, and Tennessee.

Applicant: Georgia Department of Transportation, Atlanta, Georgia, TE207108

The applicant requests authorization to capture, handle, and release Cherokee darter, shiny-rayed pocketbook (Hamiota subangulata), oval pigtoe (Pleurobema pyriforme), Gulf moccasinshell (Medionidus penicillatus), purple bankclimber (Elliptoideus sloatianus), and fat threeridge (Amblema neislerii) for presence surveys throughout Georgia.

Applicant: Tim Nehus, Lebanon, Tennesse, TE108584

The applicant requests renewal of existing authorization to capture, handle, and release the Nashville crayfish (Orconectes shoupi) and 53 species of fish and freshwater mussel for presence surveys throughout Tennessee.

Applicant: Copperhead Environmental Consulting, Inc., Paint Lick, Kentucky, TE171516

The applicant requests amendment of existing authorization to add authority to capture, handle, and release 31 species of freshwater mussel for presence surveys throughout the species ranges in the eastern United States.

Applicant: South Carolina Parks, Recreation and Tourism, Columbia, South Carolina TE207117

The applicant requests authorization to harass, inspect nest cavities, and conduct other management activities with the red-cockaded woodpecker (Picoides borealis) throughout South Carolina.

Applicant: Fort Benning Conservation Branch, Fort Benning, Georgia TE016270

The applicant requests renewal of existing authorization to harass, inspect nest cavities, capture, translocate, and conduct other management activities with the red-cockaded woodpecker throughout Georgia, Alabama, Florida, and Mississippi.

Applicant: Danny Gustafson, The Citadel, Charleston, South Carolina, TE117645

The applicant requests renewal of existing authorization to collect leaves of pondberry (Lindera melissifolia) from throughout South Carolina.

Applicant: North Carolina Botanical Garden, Chapel Hill, North Carolina, TE091705

The applicant requests renewal of existing authorization to collect seeds, spores, cuttings, and vegetative material of little amphianthus (Amphianthus pusillus), Alabama leather flower (Clematis socialis), harperella (Ptilimnium nodosum), Kral's water-plantain (Sagittaria secundifolia), green pitcher-plant (Sarracenia oreophila), seabeach amaranth (Amaranthus pumilus), shale-barren rockcress (Arabis serotina), golden sedge (Carex lutea), Alabama leather-flower (Clematis socialis), smooth-purple coneflower (Echinacea laevigata), Applachian avens (Geum radiatum), rock gnome lichen (Gymnoderma lineare), Schweinitz's sunflower (Helianthus schweinitzii), dwarf-flowered heartleaf (Hexastylis naniflora), mountain golden-heartleaf (Hudsonia montana), black-spore quillwort (Isoetes melanospora), Merlin's-grass (Isoetes tegetiformans), Heller's gayfeather (Liatris helleri), rough-leaved loosestrife (Lysimachia asperulaefolia), Canby's dropwort (Oxypolis canbyi), Ruth's golden aster (Pityopsis ruthii), Michaux's sumac (Rhus michauxii), bunched arrowhead (Sagittaria fasciculata), mountain sweet pitcher-plant (Sarracenia jonesii), largeflower skullcap (Scutellaria montana), blue ridge goldenrod (Solidago spithamaea), Virginia spirea (Spiraea virginiana), Cooley's meadowrue (Thalictrum cooleyi), and running buffalo clover (Trifolium stoloniferum) to develop and maintain germ plasm and propagated specimens of plants collected from throughout North Carolina, South Carolina, Alabama, Georgia, Florida, Tennessee, West Virginia, Virginia, and Maryland.

Applicant: International Carnivorous Plant Society, Pinole, California, TE061005

The applicant requests renewal of existing authorization to sell in interstate commerce cultivated seeds of green pitcher-plant (Sarracenia oreophila), Alabama canebreak pitcher-plant (Sarracenia rubra spp. alabamensis), mountain sweet pitcher-plant (Sarracenia rubra spp. jonesii), and godfrey's butterwort (Pinguicula ionantha). To be sold throughout the United States from specimens cultivated at University of California, Davis, California.

Applicant: Meadowview Biological Research Station, Woodford, Virginia, TE022690

The applicant requests renewal of existing authorization to sell in interstate commerce cultivated specimens of green pitcher-plant, Alabama canebreak pitcher-plant, and mountain sweet pitcher-plant. To be sold throughout the United States from specimens cultivated at Woodford, Virginia.

Dated: February 13, 2009.
Jacquelyn B. Parrish,
Acting Regional Director.

[FR Doc. E9-4827 Filed 3-6-09; 8:45 am]

BILLING CODE 4310-55-P